DEPARTMENT OF HEALTH AND HUMAN SERVICES

Health Resources and Services Administration

Health Center Program

AGENCY: Health Resources and Services Administration (HRSA), Department of Health and Human Services (HHS).

ACTION: Announcing Budget Period Extensions with Funding for the Health Center Program.

SUMMARY: HRSA provided additional grant funds during extended budget periods to prevent interruptions in the provision of critical health care services for funded service areas until new awards could be made to eligible Service Area Competition (SAC) applicants or HRSA could conduct an orderly phase-out of Health Center Program activities by the current award recipients.

SUPPLEMENTARY INFORMATION:

Recipients of the Award: Health Center Program award recipients for service areas that were threatened with a lapse in services due to service area re-announcement or transitioning award recipients, as listed in Table 1.

Amount of Non-Competitive Awards: 33 awards for $17,248,966.

Period of Supplemental Funding: Fiscal years 2016 and 2017.

CFDA Number: 93.224

Authority: Section 330 of the Public Health Service Act, as amended (42 U.S.C. 254b, as amended).

Justification: Targeting the nation's high need populations and geographic areas, the Health Center Program currently funds nearly 1,400 health centers that operate more than 11,000 service delivery sites in every state, the District of Columbia, Puerto Rico, the Virgin Islands, and the Pacific Basin. Nearly 26 million people received accessible, affordable, quality primary health care services through the Health Center Program award recipients in 2016.

Approximately one-third of Health Center Program award recipients' service areas are competed each year, and each competition has the potential to result in a change in award recipient. SACs are also held prior to the current grant's project period end date when (1) a grant is voluntarily relinquished, or (2) a program noncompliance enforcement action taken by HRSA terminates the grant. If the SAC draws no fundable applications, HRSA may extend the current award recipient's budget period to ensure primary health care services remain available while a new competition is conducted for the service area.

The amount of additional grant funds is calculated by pro-rating HRSA's annual funding commitment to the service area. Approximately 6 months is required to announce and conduct a SAC and select a new award recipient. In all cases, current fiscal year funds are used to extend the award recipient's existing budget period award. Through these actions, award recipients receive consistent levels of funding to support uninterrupted primary health care services to the nation's underserved populations and communities during service area award recipient transition.

Table 1—Recipients and Award Amounts
Grant number | Award recipient name | Extension award date | Award amount ($)
H80CS06641 | Ko'olauloa Community Health and Wellness Center, Inc | 12/01/15 | 235,116
H80CS26606 | Horizon Health and Wellness, Inc | 12/23/15 | 182,771
H80CS26604 | Neighborhood Outreach Access to Health | 12/23/15 | 192,815
H80CS00851 | Duval County Health Department | 01/11/16 | 480,066
H80CS26560 | East Central Missouri Behavioral Health Services, Inc. | 01/15/16 | 281,845
H80CS00048 | Santa Cruz County | 01/15/16 | 672,655
H80CS00001 | City of Springfield, Massachusetts | 01/15/16 | 606,761
H80CS00384 | Monroe County Health Center | 01/15/16 | 640,737
H80CS26631 | La Casa de Salud, Inc | 01/15/16 | 563,753
H80CS00400 | Circle Family Healthcare Network, Inc | 01/22/16 | 501,296
H80CS00013 | Covenant House (Under 21) | 02/03/16 | 279,116
H80CS26632 | Whitman-Walker Clinic, Inc | 02/06/16 | 423,273
H80CS00054 | Metropolitan Development Council | 02/06/16 | 457,843
H80CS00055 | White Bird Clinic | 02/10/16 | 412,985
H80CS26587 | Saint Hope Foundation | 02/10/16 | 229,491
H80CS26620 | Korean Health, Education, Information and Research Center | 02/12/16 | 504,386
H80CS26513 | FirstMed Health and Wellness Center | 02/12/16 | 596,025
H80CS08770 | Health Center of Southeast Texas | 02/12/16 | 737,066
H80CS00872 | Madison County Community Health Center | 03/01/16 | 467,855
H80CS00622 | The Hunter Health Clinic, Inc | 03/08/16 | 450,569
H80CS10606 | St. Vincent de Paul Village, Inc | 04/06/16 | 334,418
H80CS06078 | Yakima Neighborhood Health Services | 04/06/16 | 1,025,892
H80CS17251 | Upper Room Aids Ministry, Inc. Health Care Center | 04/06/16 | 738,043
H80CS00722 | Community Clinic of Maui, Inc | 04/06/16 | 570,042
H80CS01443 | Lane County | 05/15/16 | 649,218
H80CS00054 | Metropolitan Development Council | 06/14/16 | 228,922
H80CS00299 | Brazos Valley Community Action Agency, Inc | 01/17/17 | 1,520,645
H80CS00814 | Kalihi-Palama Health Center | 01/17/17 | 1,105,506
H80CS00802 | Harrington Family Health Center | 02/22/17 | 294,843
H80CS00436 | Family Health Centers of Baltimore | 02/27/17 | 743,058
H80CS00283 | Oakland Primary Health Services, Inc | 03/03/17 | 466,752
H80CS00291 | The University of Pittsburgh | 05/02/17 | 116,417
H80CS06445 | Fourth Ward d.b.a. Good Neighbor Healthcare Center | 05/30/17 | 538,786

FOR FURTHER INFORMATION CONTACT: Matt Kozar, Strategic Initiatives and Planning Division Director, Office of Policy and Program Development, Bureau of Primary Health Care, Health Resources and Services Administration, at mkozar@hrsa.gov or 301-443-1034.

Dated: March 8, 2018.
George Sigounas,
Administrator.

[FR Doc. 2018-05279 Filed 3-14-18; 8:45 am]

BILLING CODE 4165-15-P